DEPARTMENT OF JUSTICE

Antitrust Division

Notice Pursuant to the National Cooperative Research and Production Act of 1993—Ultrafine Grained Titanium for Near-Net Shape Forging—a Pathway to Titanium Market Expansion

Notice is hereby given that, on December 17, 2007, pursuant to Section 6(a) of the National Cooperative Research and Production Act of 1993, 15 U.S.C. 4301 et seq. (“the Act”), Ultrafine Grained Titanium for Near-net Shape Forging—A Pathway to Titanium Market Expansion has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: ATI AIlvac, Monroe, NC; and GE Global Research, Niskayuna, NY. The general area of this group research project's planned activity is to develop a novel ultrafine grained titanium billet process that will enable both near-net shape forging of standard alloys into complex components for aviation, energy, transportation and military markets.

Patricia A. Brink,
Deputy Director of Operations, Antitrust Division.

[FR Doc. E8-10139 Filed 5-8-08; 8:45 am]

BILLING CODE 4410-11-M